DEPARTMENT OF HEALTH AND HUMAN SERVICES

Centers for Disease Control and Prevention

[30Day-21-21BG]

Agency Forms Undergoing Paperwork Reduction Act Review

In accordance with the Paperwork Reduction Act of 1995, the Centers for Disease Control and Prevention (CDC) has submitted the information collection request titled Prevention Research Centers National Program Evaluation Reporting System (PERS) to the Office of Management and Budget (OMB) for review and approval. CDC previously published a “Proposed Data Collection Submitted for Public Comment and Recommendations” notice on December 18, 2020 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies' estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice of publication.

Proposed Project

Prevention Research Centers National Program Evaluation Reporting System (PERS)—New—National Center for Chronic Disease Prevention and Health Promotion (NCCDPHP), Centers for Disease Control and Prevention (CDC).

Background and Brief Description

In 1984, Congress passed Public Law 98-551 directing the Department of Health and Human Services (DHHS) to establish Centers for Research and Development of Health Promotion and Disease Prevention. Beginning in 1986, the CDC received funding to lead the Prevention Research Centers (PRC) Program. Each PRC receives funding from the CDC to establish its core infrastructure and functions and conduct a core research project. Core research projects reflect each PRC's area of expertise and community needs. PRC core research projects align with the health disparities and goals outlined in Healthy People 2020 and Healthy People 2030. PRCs also have the opportunity to apply for additional competitive CDC funding to complete special interest projects (SIPs) to focus on a topic of interest or a gap in scientific evidence.

In 2018, the CDC published program announcement DP19-001 for the current PRC Program funding cycle (September 30, 2019-September 29, 2024). Twenty-six PRCs were selected through a competitive, external, peer-review process. The program is now in its second year of the current five-year funding cycle.

Each PRC is housed within an accredited school of public health or an accredited school of medicine or osteopathy with a preventive medicine residency program. The PRCs conduct outcomes-oriented, applied prevention research on priority public health topics using a multi-disciplinary and community-engaged approach. Partners include, but are not limited to, state, local, and tribal health departments, departments of education, schools and school districts, community-based organizations, healthcare providers, and health organizations. Partners collaborate with the PRCs to assess community needs; identify research priorities; set research agendas; conduct research projects and related activities such as training and technical assistance; translate research findings; and disseminate research results to public health practitioners, other researchers, and the general public.

In 2020, CDC convened a work group to review proposed data fields in the program evaluation reporting system (PERS) and provide feedback to CDC. Their feedback was used to refine the data fields and ensure feasibility of the data collection and reporting by PRCs. These data will be used for program monitoring and evaluation purposes.

CDC's proposed information collection plan is as follows:

CDC will use the information reported by PRCs through PERS to identify training and technical assistance needs, respond to requests for information from Congress and other sources, monitor grantees' compliance with cooperative agreement requirements, evaluate progress made in achieving goals and objectives, and inform program improvement efforts. In addition, these monitoring data will support CDC's ability to describe the impact and effectiveness of the PRC Program.

The CDC currently funds 26 PRCs and each center will annually report the required information to the CDC through PERS during years three through five of the cooperative agreement. The proposed web-based data collection system will allow data entry during the entire year, which will enable respondents to distribute burden throughout each funding year. Response burden is estimated to decrease significantly in years four and five, because cumulative reporting means some sections will require little to no editing through the funding cycle. OMB approval is requested for three years, which will cover the last three years in the current funding cycle. The average estimated annualized burden per respondent is 25 hours. The total estimated annualized burden for all respondents is 650 hours. There are no costs to respondents other than their time.

Estimated Annualized Burden Hours
Type of respondents | Form name | Number of respondents | Number of responses per respondent | Average burden per response (in hours)
PRCs | PERS | 26 | 1 | 25

Jeffrey M. Zirger,
Lead, Information Collection Review Office, Office of Scientific Integrity, Office of Science, Centers for Disease Control and Prevention.

[FR Doc. 2021-14439 Filed 7-6-21; 8:45 am]

BILLING CODE 4163-18-P